ENVIRONMENTAL PROTECTION AGENCY

[FRL-8759-3]

Notice of Availability of Preliminary Residual Desigination of Certain Storm Water Discharges in the State of Maine Under the National Pollutant Discharge Elimination System of the Clean Water Act

AGENCY: Environmental Protection Agency.

ACTION: Notice and request for public comment.

SUMMARY: The Regional Administrator of the Environmental Protection Agency's (EPA) New England Regional Office is providing notice of availability of a preliminary determination that certain storm water discharges in the Long Creek watershed located in South Portland, Westbrook, Scarborough, and Portland, Maine will be required to obtain permit coverage under the National Pollutant Discharge Elimination System (NPDES) permits under the Clean Water Act. EPA is seeking public comment on the nature and scope of this preliminary residual designation. The period for comment on this preliminary residual designation will remain open until the close of the public comment period on any NPDES general or individual permit related to this preliminary residual designation. However, EPA strongly encourages interested parties to submit their comments within 45 days of the commencement of the comment period, after which EPA intends to review this preliminary residual designation and to decide whether to make any changes to it. It is EPA's intention to make a final residual designation following the close of the comment period on any associated NPDES permit. Copies of the preliminary residual designation are available for inspection online and in hardcopy as described elsewhere in this notice document.

DATES: Comments must be submitted on or before February 17, 2009.

ADDRESSES: Submit your comments, identified by Docket ID No. EPA-R01-OW-2008-0910 by one of the following methods:

• http://www.regulations.gov: Follow the on-line instructions for submitting comments.

• E-mail: bridge.jennie@epa.gov.

• Mail and hand delivery: U.S. Environmental Protection Agency, New England Region, One Congress Street, Suite 1100, Mail code CWQ, Boston, MA 02114-2023. Deliveries are only accepted during the Regional Office's normal hours of operation (8 a.m. to 5 p.m., Monday through Friday, excluding legal holidays), and special arrangements should be made for deliveries of boxed information.

Instructions: Direct your comments to Docket ID No. EPA-R01-OW-2008-0910. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. Environmental Protection Agency, New England Region, One Congress Street, Suite 1100, Boston, Massachusetts. To inspect the hard copy materials, please schedule an appointment during normal business hours with the contact listed in the FOR FURTHER INFORMATION CONTACT section.

FOR FURTHER INFORMATION CONTACT: Jennie Bridge, EPA New England Region, One Congress Street, Suite 1100, Mail code CWQ, (617) 918-1685, bridge.jennie@epa.gov.

SUPPLEMENTARY INFORMATION: The Regional Administrator of EPA's New England Regional Office is providing notice of availability of a preliminary determination that certain storm water discharges in the Long Creek watershed located in South Portland, Westbrook, Scarborough, and Portland, Maine will be required to obtain NPDES permits. Under Clean Water Act (CWA) Section 402(p), 33 U.S.C. 1342(p), Congress required the EPA to establish permitting requirements for certain storm water discharges. In addition, CWA Sections 402(p)(2)(E) and 402(p)(6) and implementing regulations at 40 CFR 122.26 (a)(9)(i)(D) provide that the EPA Regional Administrator may designate additional storm water discharges as requiring NPDES permits where he determines that the discharge, or category of discharges within a geographic area, contributes to a violation of a water quality standard or is a significant contributor of pollutants to waters of the United States.

The EPA Regional Administrator for the New England Region has made a preliminary determination pursuant to Section 402(p) of the Clean Water Act and 40 CFR 122.26 (9)(i)(D) that storm water controls and NPDES permits are needed for discharges to waters of the United States from impervious surfaces equal to or greater than one acre in the Long Creek watershed located in South Portland, Westbrook, Scarborough, and Portland, Maine. Details of the preliminary determination are available in the preliminary residual designation document. This document may be viewed on the EPA New England Regional Office's Web page http://www.epa.gov/region01/npdes/stormwater/assets/pdfs/LongCreekRD.pdf and at http://www.regulations.gov. Ancillary materials may be viewed at the EPA New England Regional Office's Web page http://www.epa.gov/region01/npdes/stormwater/index.html.

Dated: December 16, 2008.
Robert W. Varney,
Regional Administrator, New England Region.

[FR Doc. E8-31178 Filed 12-30-08; 8:45 am]

BILLING CODE 6560-50-P